DEPARTMENT OF THE INTERIOR

Bureau of Land Management

[LLIDT000000.L11200000.DD0000.241A.00]

Notice of Public Meetings, Twin Falls District Resource Advisory Council, Idaho

AGENCY: Bureau of Land Management, Interior.

ACTION: Notice of public meetings.

SUMMARY: In accordance with the Federal Land Policy and Management Act (FLPMA), the Federal Advisory Committee Act of 1972 (FACA, the U.S. Department of the Interior, Bureau of Land Management (BLM) Twin Falls District Resource Advisory Council (RAC) will meet as indicated below.

DATES: On September 26, 2013, the Twin Falls District RAC members will meet at the Best Western Sawtooth Inn at 2653 S. Lincoln Street, Jerome, Idaho. The meeting will begin at 9:00 a.m. and end no later than 4:00 p.m. The public comment period for the RAC meeting will take place 9:10 a.m. to 9:40 a.m.

FOR FURTHER INFORMATION CONTACT: Heather Tiel-Nelson, Twin Falls District, Idaho, 2536 Kimberly Road, Twin Falls, Idaho, 83301, (208) 736-2352.

SUPPLEMENTARY INFORMATION: The 15-member RAC advises the Secretary of the Interior, through the Bureau of Land Management, on a variety of planning and management issues associated with public land management in Idaho. During the September 26th meeting, there will be an update on the Craters of the Moon National Monument Resource Management Plan (RMP) Amendment, and updates on both the Jarbidge RMP as well as the BLM's National Greater Sage-Grouse Planning Strategy.

Additional topics may be added and will be included in local media announcements. More information is available at www.blm.gov/id/st/en/res/resource_advisory.3.html. RAC meetings are open to the public. For further information about the meeting, please contact Heather Tiel-Nelson, Public Affairs Specialist for the Twin Falls District, BLM at (208) 736-2352.

Dated: August 26, 2013.
Mel M. Meier,
District Manager .

[FR Doc. 2013-22183 Filed 9-11-13; 8:45 am]

BILLING CODE 4310-GG-P